DEPARTMENT OF ENERGY

Federal Energy Regulatory Commission

[Docket No. EC05-70-000, et al.]

Neptune Regional Transmission System, LLC, et al.; Electric Rate and Corporate Filings

May 19, 2005.

The following filings have been made with the Commission. The filings are listed in ascending order within each docket classification.

1. Neptune Regional Transmission System, LLC; Atlantic Energy Partners LLC; NewCo LLC; EIF Neptune, LLC; Starwood Energy Investors, L.L.C.

[ Docket Nos. EC05-70-000 and EL05-116-000]

On April 22, 2005, the Commission issued a Notice of Filing (Filing) regarding the application filed on April 18, 2005 by Neptune Regional Transmission System, LLC (Neptune) on behalf of Atlantic Energy Partners LLC (AEP), NewCo LLC (NewCo), EIF Neptune, LLC (EIF) and Starwood Energy Investors L.L.C. (Starwood) (collectively with Neptune, the Applicants) on April 18, 2005, requesting all necessary authorizations under section 203 of the Federal Power Act, for a transfer of jurisdictional facilities to facilitate financing and investment arrangements and for a Commission determination that AEP, EIF and Starwood are not public utilities under the Federal Power Act.

The Commission has determined that Docket No. EL05-116-000 should be assigned to the April 18, 2005 filing. Accordingly, by this notice Docket No. EL05-116-000 is added to the caption of the April 22, 2005 Notice.

Comment Date: 5 p.m. Eastern Time on May 27, 2005-05-21.

2. Baja California Power, Inc.; La Rosita Energy, B.V.; InterGen Aztec Energy III B.V.; Ocean Star V.O.F.

[Docket No. EC05-81-000]

Take notice that on May 17, 2005, Baja California Power, Inc. (BCP), La Rosita Energy, B.V. (La Rosita), InterGen Aztec Energy III B.V. (InterGen Aztec) and Ocean Star V.O.F. (collectively, the Applicants) submitted an application pursuant to section 203 of the Federal Power Act for authorization of an indirect disposition of jurisdictional facilities. The Applicants state that the proposed indirect disposition of jurisdictional facilities will occur in connection with the sale by Shell Generating (Holding) B.V. and Bechtel Enterprises Energy B.V. to Ocean Star V.O.F. of all of their interests in InterGen N.V. InterGen N.V. indirectly owns all of the equity interests of BCP, La Rosita and InterGen Aztec, which own and operate a six mile electric transmission line interconnecting certain generating facilities in Mexico with the San Diego Gas and Electric transmission grid.

Comment Date: 5 p.m. Eastern Time on June 8, 2005.

3. Klondike Wind Power LLC and Klondike Wind Power II LLC

[Docket No. EC05-82-000]

Take notice that on May 17, 2005, Klondike Wind Power LLC (Klondike I) and Klondike Wind Power II LLC (Klondike II) (collectively, Applicants) filed with the Federal Energy Regulatory Commission an application pursuant to section 203 of the Federal Power Act and Part 33 of the Commission's regulations for authorization of a change in ownership of jurisdictional facilities. Applicants states that they seek Commission authorization to complete a proposed transaction relating to certain jurisdictional interconnection facilities located in Sherman County, Oregon.

Comment Date: 5 p.m. Eastern Time on June 8, 2005.

4. California Independent System Operator Corporation

[Docket No. EL05-114-000]

Take notice that on May 13, 2005, the California Independent System Operator Corporation (CAISO) tendered for filing a Petition requesting that the Commission issue a Declaratory Order finding that changes to the selection process for the CAISO Board of Governors (Board) recently adopted by the Board result in a CAISO governance structure that is acceptable to the Commission.

The CAISO states that this filing has been served upon the Public Utilities Commission, the California Energy Commission, the California Electricity Oversight Board, and all parties with effective Scheduling Coordinator Agreements under the CAISO Tariff.

Comment Date: 5 p.m. on May 31, 2005.

5. PTO Administrative Committee

[Docket Nos. RT04-2-015 and ER04-116-015]

Take notice that on May 12, 2005, PTO Administrative Committee (PTO AC), an informational filing was made by the New England Participating Transmission Owners Administrative Committee updating informational filings related to regional transmission charges previously submitted by the New England Power Pool (NEPOOL) on December 9, 2004 under the NEPOOL Open Access Transmission Tariff. The PTO AC states that the informational filing identifies adjustments to regional transmission service charges under section II of the ISO New England Inc. Transmission Markets and Services Tariff, designated FERC Electric Tariff No. 3 (ISO Tariff) permitted by the Commission to become effective as of February 1, 2005.

The PTO AC states that copies of these materials were sent to the New England state regulatory commissions, NECPUC, the Power Planning Committee of the New England Governors, ISO New England, Inc., and NEPOOL.

Comment Date: 5 p.m. Eastern Time on June 2, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed docket(s). For Assistance with any FERC Online service, please email FERCOnlineSupport@ferc.gov or call (866) 208-3676 (toll free). For TTY, call (202) 502-8659.

Linda Mitry,
Deputy Secretary.

[FR Doc. E5-2694 Filed 5-26-05; 8:45 am]

BILLING CODE 6717-01-P